DEPARTMENT OF THE TREASURY

Internal Revenue Service

26 CFR Part 1

[REG-165579-02]

RIN 1545-BB80

Corporate Reorganizations; Transfers of Assets or Stock Following a Reorganization

Correction

In proposed rule document 04-4483 beginning on page 9771 in the issue of Tuesday, March 2, 2004 make the following corrections:

§1.368-1 [Corrected]

1. On page 9773, in the third column, in §1.368-1, in paragraph (d)(4)(i)(B), in the second line, “or” should read “aquired, or”.

2. On the same page, in the same column, in the same section, in the same paragraph, in the sixth line, “this” should read “these”.

3. On the same page, in the same column, in the same section, in paragraph (d)(5)(i), in Example 7., in the ninth line, “continued” should read “continue”.

§1.368-2 [Corrected]

4. On page 9774, in the first column, in §1.368-2, in paragraph (k)(1), in the ninth line, “in” should read “of”.

5. On the same page, in the second column, in the same section, in paragraph (k)(3), under Example 4., in paragraph (ii), in the sixth line, “from S-3” should read “from S-2 to S-3”.

[FR Doc. C4-4483 Filed 4-1-04; 8:45 am]

BILLING CODE 1505-01-D